DEPARTMENT OF AGRICULTURE

Submission for OMB Review; Comment Request

April 17, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: School Foodservice Indirect Cost Study.

OMB Control Number: 0584-NEW.

Summary of Collection: The Healthy Hunger Free Kids Act of 2010 (Pub. L. 111-296), requires USDA to conduct a study to assess the extent to which school food authorities (SFAs) participating in the National School Lunch and Breakfast Program pay indirect costs. The objective of the School Foodservice Indirect Cost Study is to collect and analyze up-to-date data on school districts' policies and procedures for reporting and recovering indirect costs attributable to their foodservice operations. The ultimate goal of the study is to provide USDA and Congress the necessary information to assess the extent to which school districts identify, treat, and charge indirect costs attributable to their foodservice operations.

Need and Use of the Information: The study will help the Food and Nutrition Service understand the extent to which current regulations are being followed and if there is a need for additional regulations and/or legislation to ensure that school districts treat indirect costs in the same manner across all of their grant programs. Without the information FNS will not have the data necessary to address the questions posed by Congress.

Description of Respondents: Business or other for-profit; State, Local, or Tribal Government.

Number of Respondents: 5,118.

Frequency of Responses: Report: Other (one-time).

Total Burden Hours: 3,159.

Ruth Brown,
Departmental Information Collection Clearance Officer.

[FR Doc. 2012-9632 Filed 4-20-12; 8:45 am]

BILLING CODE 3410-30-P